NUCLEAR REGULATORY COMMISSION

[Docket Nos. 50-317, 50-318, 72-8; Renewed License No. DPR-53; Renewed License No. DPR-69; and License No. SNM-2505]

In the Matter of Baltimore Gas and Electric Company (Calvert Cliffs Nuclear Power Plant, Units 1 and 2, and Calvert Cliffs Independent Spent Fuel Storage Installation; Order Approving Transfer of Licenses and Conforming Amendments

I

Baltimore Gas and Electric Company (BGE or the licensee) is the holder of Renewed Facility Operating Licenses Nos. DPR-53 and DPR-69, which authorize operation of Calvert Cliffs Nuclear Power Plant, Units 1 and 2 (CCNPP or Calvert Cliffs), and Materials License No. SNM-2505, which authorizes operation of the Calvert Cliffs Independent Spent Fuel Storage Installation (Calvert Cliffs ISFSI). The facilities are located at the licensee's site in Calvert County, Maryland. The operating licenses authorize BGE to possess, use, and operate Calvert Cliffs. The materials license authorizes BGE to receive, possess, transfer and store power reactor spent fuel at the Calvert Cliffs ISFSI.

II

By application dated February 29, 2000, as supplemented April 7, April 27, May 2, May 19, and June 20, 2000 (collectively, the application), BGE requested that the Commission consent to certain proposed license transfers that would be necessary in connection with the corporate restructuring of BGE in accordance with Maryland's Electric Customer Choice and Competition Act of 1999. Under this restructuring, Constellation Energy Group, Inc. (“Constellation Energy”), the parent of BGE, has formed a wholly owned subsidiary, Constellation Nuclear Group, LLC (“CN”). BGE proposes to transfer ownership of and the licenses for CCNPP and the ISFSI to a subsidiary of BGE, Calvert Cliffs Nuclear Power Plant, Inc. (“Company”). BGE will then transfer the ownership of Company to Constellation Energy, which in turn will transfer the ownership of Company to CN. The result will be that CN, as owned by Constellation Energy will own Company, which will be the owner and licensee of CCNPP and the ISFSI. No physical changes to the facilities or operational changes were proposed in the application.

Approval of the transfer of the facility operating licenses and conforming license amendments was requested by BGE pursuant to 10 CFR 50.80 and 50.90, and approval of the transfer of the materials license and conforming amendment was requested by BGE pursuant to 10 CFR 72.50 and 72.56. Notice of the request for approval and an opportunity for a hearing was published in the Federal Register on May 4, 2000 (65 FR 25963). No hearing requests or written comments were received.

Pursuant to 10 CFR 50.80, no license, or any right thereunder, shall be transferred, directly or indirectly, through transfer of control of the license, unless the Commission shall give its consent in writing. In addition, pursuant to 10 CFR 72.50, no license shall be transferred, directly or indirectly, through transfer of control of the license, unless the Commission gives its consent in writing. After reviewing the information in the application from BGE and other information before the Commission and relying upon the representations and agreements contained in the application, the NRC staff has determined that Company is qualified to be the holder of the licenses and that the transfer of the licenses to Company is otherwise consistent with applicable provisions of law, regulations, and orders issued by the Commission, subject to the conditions set forth below. The NRC staff has further found that (1) The application for the proposed license amendments complies with the standards and requirements of the Atomic Energy Act of 1954, as amended, and the Commission's rules and regulations set forth in 10 CFR Chapter 1; (2) the facilities will operate in conformity with the application, the provisions of the Act, and the rules and regulations of the Commission; (3) there is reasonable assurance that the activities authorized by the proposed license amendments can be conducted without endangering the health and safety of the public and that such activities will be conducted in compliance with the Commission's regulations; (4) the issuance of the proposed license amendments will not be inimical to the common defense and security or the health and safety of the public; and (5) the issuance of the proposed amendments will be in accordance with 10 CFR part 51 of the Commission's regulations, and all applicable requirements have been satisfied. The foregoing findings are supported by a safety evaluation dated June 30, 2000.

III

Accordingly, pursuant to Sections 161b, 161i, and 184 of the Atomic Energy Act of 1954, as amended, 42 U.S.C. 2201(b), 2201(i), and 2234, and 10 CFR 50.80 and 10 CFR 72.50, it is hereby ordered that the transfer of the licenses, as described herein, to Company is approved, subject to the following conditions:

(1) Company shall, prior to completion of the subject transfers, provide the Director of the Office of Nuclear Reactor Regulation satisfactory documentary evidence that Company has obtained the appropriate amount of insurance required of licensees under 10 CFR part 140 of the Commission's regulations.

(2) If the transfer of the licenses is not completed by July 1, 2001, this Order shall become null and void, provided, however, upon written application and for good cause shown, such date may in writing be extended.

(3) The decommissioning trust agreement for Calvert Cliffs and the ISFSI, at the time the license transfers are effected and thereafter, is subject to the following:

(a) The decommissioning trust agreement must be in a form acceptable to the NRC.

(b) With respect to the decommissioning trust funds, investments in the securities or other obligations of Constellation Energy or its affiliates, successors, or assigns shall be prohibited. Except for investments tied to market indexes or other non-nuclear-sector mutual funds, investments in any entity owning one or more nuclear power plants are prohibited.

(c) The decommissioning trust agreement must provide that no disbursements or payments from the trusts shall be made by the trustee unless the trustee has first given the NRC 30-days prior written notice of payment. The decommissioning trust agreement shall further contain a provision that no disbursements or payments from the trusts shall be made if the trustee receives prior written notice of objection from the Director, Office of Nuclear Reactor Regulation.

(d) The decommissioning trust agreement must provide that the agreement cannot be amended in any material respect without 30-days prior written notification to the Director, Office of Nuclear Reactor Regulation.

(e) The appropriate section of the decommissioning trust agreement shall state that the trustee, investment advisor, or anyone else directing the investments made in the trusts shall adhere to a “prudent investor” standard, as specified in 18 CFR 35.32(a)(3) of the Federal Energy Regulatory Commission's regulations.

(4) Company shall provide decommissioning funding assurance, to be held in decommissioning trusts for Calvert Cliffs upon the transfer of the licenses to Company, in an amount equal to or greater than the balance in the Calvert Cliffs decommissioning trusts immediately prior to the transfer. In addition, Company shall ensure that all contractual arrangements referred to in the application to obtain necessary decommissioning funds for Calvert Cliffs through a non-bypassable charge are executed and will be maintained until the decommissioning trusts are fully funded, or shall ensure that other mechanisms that provide equivalent assurance of decommissioning funding in accordance with the Commission's regulations are maintained.

(5) Company shall take all necessary steps to ensure that the decommissioning trusts are maintained in accordance with the application, the requirements of this Order, and the related safety evaluation.

It is further ordered that, consistent with 10 CFR 2.1315(b), license amendments that make changes, as indicated in Enclosure 2 to the cover letter forwarding this Order, to conform the licenses to reflect the subject license transfers are approved. The amendments shall be issued with this Order and shall be made effective at the time the proposed license transfers are completed.

This Order is effective upon issuance.

For further details with respect to this action, see the initial application dated February 29, 2000, supplements dated April 7, April 27, May 2, May 19, and June 20, 2000, and the safety evaluation dated June 30, 2000, which are available for public inspection at the Commission's Public Document Room, the Gelman Building, 2120 L Street, NW., Washington, DC, and accessible electronically through the ADAMS Public Electronic Reading Room link at the NRC Web site (http://www.nrc.gov).

Dated at Rockville, Maryland, this 30th day of June, 2000.
For the Nuclear Regulatory Commission.
Roy P. Zimmerman,
Acting Director, Office of Nuclear Reactor Regulation.
William F. Kane,
Director, Office of Nuclear Material Safety and Safeguards.

[FR Doc. 00-17206 Filed 7-6-00; 8:45 am]

BILLING CODE 7590-01-P